DEPARTMENT OF THE INTERIOR

Fish and Wildlife Service

Receipt of an Application for an Incidental Take Permit for Construction on a Single-Family Lot, in Volusia County, FL

AGENCY: Fish and Wildlife Service, Interior.

ACTION: Notice.

Royce Winslow (Applicant), seeks an incidental take permit (ITP) from the Fish and Wildlife Service (Service), pursuant to section 10(a)(1)(B) of the Endangered Species Act of 1973 (Act), as amended. The ITP would authorize incidental take of the Florida scrub-jay (Aphelocoma coerulescens), on a single family lot for land clearing and other activities associated with the construction of a single family home on a 0.134-acre lot in City of Ormond Beach, Volusia County, Florida (Project).

The Applicant's Habitat Conservation Plan (HCP) describes the mitigation and minimization measures proposed to address the effects of the Project to the Florida scrub-jay. These measures are outlined in the SUPPLEMENTARY INFORMATION section below. The Service has determined that the Applicant's proposal, including the proposed mitigation and minimization measures, will individually and cumulatively have a minor or negligible effect on the species covered in the HCP. Therefore, the ITP is a “low-effect” project and would qualify as a categorical exclusion under the National Environmental Policy Act (NEPA), as provided by the Department of the Interior Manual (516 DM2, Appendix 1 and 516 DM 6, Appendix 1). The Service announces the availability of the HCP for the incidental take application. Copies of the HCP may be obtained by making a request to the Regional Office (see ADDRESSES). Requests must be in writing to be processed. This notice is provided pursuant to Section 10 of the Endangered Species Act and NEPA regulations (40 CFR 1506.6).

If you wish to comment, you may submit comments by any one of several methods. Please reference permit number TE059232-0 in such comments. You may mail comments to the Service's Regional Office (see ADDRESSES). You may also comment via the Internet to david_dell@fws.gov. Please submit comments over the internet as an ASCII file avoiding the use of special characters and any form of encryption. Please also include your name and return address in your internet message. If you do not receive a confirmation from the Service that we have received your internet message, contact us directly at either telephone number listed below (see FOR FURTHER INFORMATION CONTACT). Finally, you may hand deliver comments to either Service office listed below (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. We will not, however, consider anonymous comments. We will make all submissions from organizations or businesses, and from individuals identifying themselves as representatives or officials of organizations or businesses, available for public inspection in their entirety.

DATES: Written comments on the ITP application and HCP should be sent to the Service's Regional Office (see ADDRESSES) and should be received on or before July 7, 2003.

ADDRESSES: Persons wishing to review the application, supporting documentation, and HCP may obtain a copy by writing the Service's Southeast Regional Office, Atlanta, Georgia. Documents will also be available for public inspection by appointment during normal business hours at the Regional Office, 1875 Century Boulevard, Suite 200, Atlanta, Georgia 30345 (Attn: Endangered Species Permit Coordinator), or Field Supervisor, U.S. Fish and Wildlife Service, 6620 South Point Drive, South, Suite 310, Jacksonville, Florida 32216-0912. Written data or comments concerning the application or HCP should be submitted to the Regional Office. Requests for the documentation must be in writing to be processed. Please reference permit number TE059232-0 in such comments, or in requests of the documents discussed herein.

FOR FURTHER INFORMATION CONTACT: Mr. David Dell, Regional Permit Coordinator, (see ADDRESSES above), telephone: 404/679-7313; or Ms. Jane Monaghan, Fish and Wildlife Biologist, Jacksonville Field Office, (see ADDRESSES), telephone 904/232-2580, extension 128.

SUPPLEMENTARY INFORMATION: The Florida scrub-jay is geographically isolated from other species of scrub-jays found in Mexico and the Western United States. The Florida scrub-jay is found almost exclusively in peninsular Florida and is restricted to scrub habitat. The total estimated population is between 7,000 and 11,000 individuals. Due to habitat loss and degradation throughout the State of Florida, it has been estimated that the Florida scrub-jay population has been reduced by at least half in the last 100 years. Surveys indicate that one family of Florida scrub-jays occupies the Project site. The 0.134 acre of occupied habitat on the site is very overgrown due to fire suppression and a lack of any kind of management. The surrounding area is intensely developed with only scattered fragments of scrub habitat remaining. Construction of the Project's infrastructure, commercial construction and construction of the individual home sites will likely result in death of, or injury to, Florida scrub-jays incidental to the carrying out of these otherwise lawful activities. Habitat alteration associated with property development will reduce the availability of feeding, shelter, and nesting habitat.

Section 9 of the Act, and implementing regulations, prohibits taking the Florida scrub-jay. Taking, in part, is defined as an activity that kills, injures, harms, or harasses a listed endangered or threatened species. Section 10(a)(1)(B) of the Act provides an exemption, under certain circumstances, to the Section 9 prohibition if the taking is incidental to an otherwise lawful activity. Section 10 requires the applicant to submit a Habitat Conservation Plan that specifies the impacts that are likely to result from the taking and the measures the permit applicant will undertake to minimize and mitigate such impacts. Section 10(a)(2)(B) of the Act provides statutory criteria that must be satisfied before an incidental take permit can be issued. The issuance criteria are as follows:

1. The taking is incidental to, and not the purpose of otherwise lawful activities.

2. Applicant will to the maximum extent practicable, minimize, and mitigate the impacts of such taking.

3. Applicant will ensure that adequate funding for the HCP and procedures to deal with unforeseen circumstances will be provided.

4. The taking will not appreciably reduce the likelihood of survival and recovery of the species in the wild.

5. Applicant will ensure that other measures that the Service may require as being necessary or appropriate will be provided.

6. The Service has received such other assurances as may be required that the HCP will be implemented.

The HCP describes measures by the Applicant to avoid and mitigate “take” that would occur as a result of the project. To minimize impacts, the Applicant will ensure that clearing of vegetation within 150 feet of active nests will not take place during the nesting season for Florida scrub-jays (March 1 through July 1). To mitigate for the up to 0.134 acres of occupied habitat that would be eliminated on-site, the Applicant will contribute $1,688.00 to the National Fish and Wildlife Foundation Fund for the conservation and management of the Florida scrub-jay. This money will be used, along with other funds received from Section 10(a)(1)(B) permits, to purchase scrub-jay habitat in Volusia County, Florida. This amount is based on replacement at a rate of 2:1 (0.268 acre purchased to replace 0.134 acre at a current cost of $5,000.00 per acre for a final cost of $1,340.00), provides a $1,000 per acre ($268.00) management endowment for perpetual management, and includes a five percent fee ($84.00) for the administration of the National Fish and Wildlife Foundation account. Once purchased, the land will be transferred to a third party land management organization along with the $1,000 per acre management endowment. This management will be accomplished through the use of a conservation easement specifying that the land be left undeveloped and managed into perpetuity. It is believed that ensuring the protection and viability of quality, occupied habitat in a large contiguous preserve such as that which will be purchased in Volusia County, is more beneficial to the scrub-jay than any on-site mitigation plan could offer.

As stated above, we have determined that the HCP is a low-effect plan that is categorically excluded from further NEPA analysis, and does not require the preparation of an Environmental Assessment or Environmental Impact Statement. This preliminary information may be revised due to public comment received in response to this notice. Low-effect HCPs are those involving: (1) Minor or negligible effects on federally listed or candidate species and their habitats, and (2) minor or negligible effects on other environmental values or resources. The Applicant's HCP qualifies for the following reasons:

1. Approval of the HCP would result in minor or negligible effects on the Florida scrub-jay population as a whole. The Service does not anticipate significant direct or cumulative effects to the Florida scrub-jay population as a result of the construction project.

2. Approval of the HCP would not have adverse effects on known unique geographic, historic or cultural sites, or involve unique or unknown environmental risks.

3. Approval of the HCP would not result in any significant adverse effects on public health or safety.

4. The project does not require compliance with Executive Order 11988 (Floodplain Management), Executive Order 11990 (Protection of Wetlands), or the Fish and Wildlife Coordination Act, nor does it threaten to violate a Federal, State, local or tribal law or requirement imposed for the protection of the environment.

5. Approval of the Plan would not establish a precedent for future action or represent a decision in principle about future actions with potentially significant environmental effects.

The Service has therefore determined that approval of the Plan qualifies as a categorical exclusion under the NEPA, as provided by the Department of the Interior Manual (516 DM 2, Appendix 1 and 516 DM 6, Appendix 1). Therefore, no further NEPA documentation will be prepared.

The Service will evaluate the HCP and comments submitted thereon to determine whether the application meets the requirements of section 10(a) of the Act. If it is determined that those requirements are met, the ITP will be issued for the incidental take of the Florida scrub-jay. The Service will also evaluate whether issuance of the section 10(a)(1)(B) ITP complies with section 7 of the Act by conducting an intra-Service section 7 consultation. The results of this consultation, in combination with the above findings, will be used in the final analysis to determine whether or not to issue the ITP.

Dated: May 8, 2003.
Christine E. Eustis,
Acting Regional Director.

[FR Doc. 03-13970 Filed 6-3-03; 8:45 am]

BILLING CODE 4310-55-P